DEPARTMENT OF TRANSPORTATION

Federal Aviation Administration

14 CFR Part 39

[Docket No. 2003-CE-22-AD; Amendment 39-13504; AD 2003-22-07 R1]

RIN 2120-AA64

Airworthiness Directives; Mitsubishi Heavy Industries, Ltd., MU-2B Series Airplanes

AGENCY: Federal Aviation Administration (FAA), DOT.

ACTION: Final rule; correction.

SUMMARY: The FAA is revising Airworthiness Directive (AD) 2003-22-07, which applies to all Mitsubishi Heavy Industries, Ltd. (Mitsubishi) MU-2B series airplanes. AD 2003-22-07 requires incorporating information into the Limitations Section of the Airplane Flight Manual (AFM) that requires pilot training before flight into known or forecast icing conditions after a certain date. AD 2003-22-07 resulted from the development of a new training video that includes information that is critical to safety of the MU-2B series airplanes. This AD revision is the result of the FAA incorrectly stating in the actions required by AD 2003-22-07 that on or before June 15, 2004 (the effective date of AD 2003-22-07), no person may serve as pilot-in-command (PIC) of a MU-2B series airplane in a flight into known or forecast icing conditions, unless the PIC has received the required training. Consequently, this AD will correct the actions required in AD 2003-22-07 to require those actions on or after June 15, 2004. We are issuing this AD to ensure that the Icing Awareness Training (IAT) requirement continues after June 15, 2004, in order to decrease the chance of icing-related incidents or accidents of the MU-2B series airplanes due to pilot error.

DATES: This AD becomes effective on April 16, 2004.

ADDRESSES: You may view the AD docket at FAA, Central Region, Office of the Regional Counsel, Attention: Rules Docket No. 2003-CE-22-AD, 901 Locust, Room 506, Kansas City, Missouri 64106. Office hours are 8 a.m. to 4 p.m., Monday through Friday, except Federal holidays.

FOR FURTHER INFORMATION CONTACT: Contact one of the following for questions or more information related to this subject:

—For General Icing Related Questions: Mr. Paul Pellicano, Aerospace Engineer (Icing Specialist), Atlanta Aircraft Certification Office, FAA, One Crown Center, 1895 Phoenix Boulevard, Suite 450, Atlanta, Georgia 30349; telephone: (770) 703-6064; facsimile: (770) 703-6097;

—For Questions Relating to Airplanes on Type Certificate Data Sheet (TCDS) A2PC: Mr. Carl Fountain, Aerospace Engineer, Los Angeles Aircraft Certification Office, FAA, 3960 Paramount Boulevard, Lakewood, California 90712; telephone: (562) 627-5222; facsimile: (562) 627-5228; or

—For Questions Relating to Airplanes on TCDS A10SW: Mr. Werner Koch, Aerospace Engineer, FAA, Airplane Certification Office, 2601 Meacham Boulevard, Fort Worth, Texas 76193-0150; telephone: (817) 222-5133; facsimile: (817) 222-5960.

SUPPLEMENTARY INFORMATION:

Discussion

Has FAA taken any action to this point? Analysis that the training level of the pilots-in-command (PIC) of the MU-2B series airplanes made it difficult for them to recognize adverse operating conditions and operate safely while flying in icing conditions caused FAA to issue AD 97-20-14, Amendment 39-10150, and AD 2003-22-07, Amendment 39-13355.

AD 97-20-14 required incorporating information into the Limitations Section of the Airplane Flight Manual (AFM) that requires pilot training before further flight into known or forecast icing conditions after a certain date.

AD 2003-22-07 also requires incorporating information into the Limitations Section of the Airplane Flight Manual (AFM) that requires pilot training before further flight into known or forecast icing conditions after a certain date based on a new training video developed by Mitsubishi.

What has happened since AD 2003-22-07 to initiate this action? We incorrectly stated in the AFM Limitation that on or before June 15, 2004 (the effective date of AD 2003-22-07), no person may serve as pilot-in-command (PIC) of a MU-2B series airplane in a flight into known or forecast icing conditions, unless the PIC has received the required training.

Stating on or before June 15, 2004, means that after June 15, 2004, there is no longer a requirement to get the IAT training. This was not the intent of the FAA or Mitsubishi.

The correct statement in the AFM Limitation should be that on or after June 15, 2004, no person may serve as pilot-in-command (PIC) of a MU-2B series airplane in a flight into known or forecast icing conditions, unless the PIC has received the required training.

What is the potential impact if FAA took no action? If the language in the AFM Limitation Section is not corrected, no one would be required to have the mandatory pilot IAT training after June 15, 2004. Lack of mandatory pilot IAT training could result in an increased chance of icing-related incidents or accidents of the MU-2B series airplanes due to pilot error.

FAA's Determination and Requirements of the AD

What has FAA decided? We have evaluated all pertinent information and identified an unsafe condition that is likely to exist or develop on other products of this same type design.

Since the unsafe condition described previously is likely to exist or develop in Mitsubishi MU-2B series airplanes when the PIC is not proficient in the operating conditions of these airplanes, we are issuing this AD to decrease the chance of icing-related incidents or accidents of the MU-2B series airplanes due to pilot error.

What does this AD require? This AD requires you to incorporate information into the Limitations Section of the Airplane Flight Manual (AFM) that requires pilot training before further flight into known or forecast icing conditions after a certain date. That AFM limitation consists of the following:

On or after June 15, 2004, no person may serve as pilot-in-command (PIC) of a Mitsubishi MU-2B series airplane in a flight into known or forecast icing conditions, unless the PIC has received the following training since the beginning of the 24th calendar month before the scheduled flight: FAA-approved Mitsubishi Icing Awareness Training (IAT) video YET-01295. One exception is that if training mandated by AD 97-20-14 has been received in the 24 months before June 15, 2004, then the new training must be done no later than 24 months after the date of the AD 97-20-14 training. This two-hour training has been available since July 2, 2002, and is provided by Mitsubishi Heavy Industries at no cost, as part of the Mitsubishi Systems Review (MSR) program. To sign up for the planned training schedules or to arrange training at a more convenient time and location, contact Turbine Aircraft Services at (972) 934-5480. Training is also available at the Sim Com and Reese Howell Enterprises training facilities and some local Flight Standards District Offices (FSDOs). Pilot logbook endorsements are available after completing this training from: Sim Com, Reese Howell Enterprises, Turbine Aircraft Services (TAS), an FAA Aviation Safety Inspector, or other FAA authorized personnel. Please note that all operators of the affected airplanes must initiate action to notify and ensure that flight crewmembers are aware of this requirement.

Changes to 14 CFR Part 39—Affect on the AD

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Compliance Time of This AD

What will be the compliance time of this AD? The compliance time of this AFM incorporation is “within the next 10 days after the effective date of this AD.” The actual viewing of the training video will be incorporated into the current schedule of the video required by AD 97-20-14.

Why is the compliance time presented in calendar time instead of hours time-in-service (TIS)? The unsafe condition described in this AD is not a direct result of airplane design or operation, but is attributed to the expertise and knowledge of the PIC. For this reason, FAA has determined that a compliance time based upon calendar time will be used instead of a certain number of hours TIS.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “AD Docket No. 2003-CE-22-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-22-AD” in your request.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2003-22-07, Amendment 39-13355 (68 FR 61613, October 29, 2003), and by adding a new AD to read as follows:

2003-22-07 R1 Mitsubishi Heavy Industries, Ltd.: Amendment 39-13504; Docket No. 2003-CE-22-AD; Revises AD 2003-22-07, Amendment 39-13355.

When Does This AD Become Effective?

(a) This AD becomes effective on April 16, 2004.

What Other ADs Are Affected by This Action?

(b) This AD revises AD 2003-22-07, Amendment 39-13355.

What Airplanes Are Affected by This AD?

(c) This AD affects Models MU-2B, MU-2B-10, MU-2B-15, MU-2B-20, MU-2B-25, MU-2B-26, MU-2B-26A, MU-2B-30, MU-2B-35, MU-2B-36, MU-2B-36A, MU-2B-40, and MU-2B-60 airplanes, all serial numbers, that are certificated in any category.

Note: This AD also applies to owners and operators who are operating an MU-2B that is under the Alternative Method of Compliance (AMOC) to Item (d)(2) of AD 2000-09-15 R1, for non-air carrier pilots, that requires annual viewing of the Icing Awareness Video YET-01295. This AMOC stated that Mitsubishi Heavy Industries America (MHIA) produced icing training video referenceYET-97336A may optionally be used as an alternative to the YET 01295 until November 24, 2004, provided it is a valid method of compliance to AD 97-20-14. As of June 15, 2004, YET-97336A will now no longer be a valid method of compliance for this AMOC.

What Is the Unsafe Condition Presented in This AD?

(d) This AD is the result of Mitsubishi developing a new training video that includes information that is critical to safety of the MU-2B series airplanes. The actions specified in this AD are intended to decrease the chance of icing-related incidents or accidents of the MU-2B series airplanes due to pilot error.

What Must I Do To Address This Problem?

(e) To address this problem, you must accomplish the following:

Actions | Compliance | Procedures
Incorporate information into the Limitations Section of the Airplane Flight Manual (AFM) that requires pilot training before further flight into known or forecast icing conditions after a certain date. This AFM limitation consists of the following: “On or after June 15, 2004, no person may serve as pilot-in-command (PIC) of a Mitsubishi MU-2B series airplane in a flight into known or forecast icing conditions, unless the PIC has received the following training since the beginning of the 24th calendar month before the scheduled flight: FAA-approved Mitsubishi Icing Awareness Training (IAT) video YET-01295. One exception is that if training mandated by AD 97-20-14 has been received in the 24 months before June 15, 2004, then the new training must be done no later than 24 months after the date of the AD 97-20-14 training. This two-hour training has been available since July 2, 2002, and is provided by Mitsubishi Heavy Industries at no cost. To sign up for the planned training schedules or to arrange training at a more convenient time and location, contact Turbine Aircraft Services at (972) 934-5480. Training is also available at Sim Com and Reese Howell Enterprises training facilities and some local Flight Standards District Offices (FSDOs). Pilot logbook endorsements are available after completing this training from: Sim Com, Reese Howell Enterprises, Turbine Aircraft Services (TAS), an FAA Aviation Safety Inspector, or other FAA authorized personnel. Please note that all operators of the affected airplanes must initiate action to notify and ensure that flight crewmembers are aware of this requirement.” | Do the AFM incorporation within the next 10 days after April 16, 2004 (the effective date of this AD) | The owner/operator holding at least a private pilot certificate as authorized by section 43.7 of the Federal Aviation Regulations (14 CFR 43.7) may accomplish the AFM incorporation requirement of this AD. Make an entry into the aircraft records showing compliance with this portion of the AD in accordance with § 43.9 of the Federal Aviation Regulations (14 CFR 43.9). Inserting a copy of this AD into the Limitations Section of the AFM accomplishes this portion of the AD.

What About Alternative Methods of Compliance?

(f) You may request a different method of compliance or a different compliance time for this AD by following the procedures in 14 CFR 39.19. Unless FAA authorizes otherwise, send your request to your principal inspector. The principal inspector may add comments and will send your request to the Manager, Standards Office, Small Airplane Directorate, 901 Locust, Room 301, Kansas City, Missouri 64106; telephone: (816) 329-4110; facsimile: (816) 329-4090.

(1) For information on any already approved alternative methods of compliance, contact Mr. Paul Pellicano, Aerospace Engineer (Icing Specialist), Atlanta Aircraft Certification Office, FAA, One Crown Center, 1895 Phoenix Boulevard, Suite 450, Atlanta, Georgia 30349; telephone: (770) 703-6064; facsimile: (770) 703-6097.

(2) Alternative methods of compliance approved in accordance with AD 2003-22-07, which is revised by this AD, are approved as alternative methods of compliance with this AD.

Issued in Kansas City, Missouri, on February 24, 2004.
James E. Jackson,
Acting Manager, Small Airplane Directorate, Aircraft Certification Service.

[FR Doc. 04-4512 Filed 3-1-04; 8:45 am]

BILLING CODE 4910-13-P